FEDERAL MARITIME COMMISSION

[Docket No. 15-11]

Igor Ovchinnikov, Irina Rzaeva, and Denis Nekipelov v. Michael Hitrinov a/k/a Michael Khitrinov, Empire United Lines Co., Inc., and Carcont, Ltd.; Notice of Filing of Complaint and Assignment

Notice is given that a complaint has been filed with the Federal Maritime Commission (Commission) by Igor Ovchinnikov, Irina Rzaeva, and Denis Nekipelov, hereinafter “Complainants,” against Michael Hitrinov (“Hitrinov”), Empire United Lines Co., Inc. (“EUL”) and CarCont Ltd. (“CarCont”), hereinafter “Respondents.” Complainants state that they are individuals residing in the Russian Federation. Complainants allege that Respondent EUL is a New York corporation and a licensed non-vessel-operating common carrier, Respondent CarCont is a company in Finland, and Respondent Hitrinov is the owner of both EUL and CarCont.

Complainants allege that Respondents have violated the Shipping Act, 46 U.S.C. 40301, 40302, 40501, 40701, 41102, 41104, 41106, and the Commission's regulations at 46 CFR part 515, in connection with shipment of 3 vehicles. Complainants allege that each Complainant purchased a vehicle, which vehicles were shipped to Finland but never released or delivered because of unpaid loans due Respondents by the seller of the vehicles, affiliates G-Auto Sales, Inc. and Effect Auto Sales Inc. Complainant Igor Ovchinnikov seek damages in excess of $28,960. Complainant Irina Rzaeva seek damages in excess of $32,101. Complainant Denis Nekipelov seek damages in excess of $19,920.

Complainants request that: “(1) Respondents be required to answer the charges herein; (2) that after due hearing, an order be made commanding said Respondent to pay to Complainants by way of reparations for the unlawful conduct . . . with interest and attorney's fees or such other sum as the Commission may determine to be proper as an award of reparation; (3) that the Commission issue an Order holding that the Respondents . . . violated the Shipping Act of 1984; (4) that the Commission Order the Respondents to provide Empire United Lines Co., Inc.'s house bills of lading for the shipments described herein; and (5) that the Commission issue such other and further order or orders as the Commission determines to be just and proper.”

The full text of the complaint can be found in the Commission's Electronic Reading Room at www.fmc.gov/15-11.

This proceeding has been assigned to the Office of Administrative Law Judges. The initial decision of the presiding officer in this proceeding shall be issued by November 17, 2016, and the final decision of the Commission shall be issued by May 16, 2017.

Karen V. Gregory,
Secretary.

[FR Doc. 2015-29856 Filed 11-23-15; 8:45 am]

BILLING CODE 6731-AA-P